DEPARTMENT OF STATE

[Public Notice 8351]

Notice of Meeting of Advisory Committee on International Law

Correction

In notice document 2013-13719, appearing on page 34702 in the issue of Monday, June 10, 2013, make the following correction:

In the third column, in the last paragraph, the entry “(202-776-8442 or lermanjb@state.gov.mailto:KillTP@state.gov)” is corrected to read “(202-776-8442 or lermanjb@state.gov mailto:KillTP@state.gov)”.

[FR Doc. C1-2013-13719 Filed 6-25-13; 8:45 am]

BILLING CODE 1505-01-D